DEPARTMENT OF COMMERCE

International Trade Administration

A-570-909

Certain Steel Nails from the People's Republic of China: Initiation of Antidumping Duty New Shipper Review

AGENCY: Import Administration, International Trade Administration, Department of Commerce.

EFFECTIVE DATE: March 20, 2009.

SUMMARY: The Department of Commerce (“Department”) has determined that a request for a new shipper review (“NSR”) of the antidumping duty order on certain steel nails (“steel nails”) from the People's Republic of China (“PRC”), received on February 25, 2009, meets the statutory and regulatory requirements for initiation. The period of review (“POR”) for this NSR is January 23, 2008, through January 31, 2009.¹

¹ The POR of February 1, 2008, through January 31, 2009, listed in the NSR request submitted by Qingdao Denarius Manufacture Co., Ltd (“Qingdao Denarius”) on February 25, 2009, was incorrect. The correct POR is January 23, 2008, through January 31, 2009, because the suspension of liquidation began on January 23, 2008. See 19 CFR 351.214(g)(ii)(B).

FOR FURTHER INFORMATION CONTACT: Tim Lord, AD/CVD Operations, Office 9, Import Administration, International Trade Administration, U.S. Department of Commerce, 14th Street and Constitution Avenue, NW, Washington, DC 20230; telephone: 202-482-7425.

SUPPLEMENTARY INFORMATION:

Background

The notice announcing the antidumping duty order on certain steel nails from the PRC was published in the Federal Register on August 1, 2008. See Notice of Antidumping Duty Order: Certain Steel Nails From the People's Republic of China, 73 FR 44961 (August 1, 2008) (“Antidumping Duty Order”). On February 25, 2009, pursuant to section 751(a)(2)(B)(i) of the Tariff Act of 1930, as amended (“Act”), and 19 CFR 351.214(c), the Department received a NSR request from Qingdao Denarius. Qingdao Denarius' request was properly made during February 2009, which is the semi-annual anniversary of the Antidumping Duty Order. Qingdao Denarius certified that it is a producer and exporter of the subject merchandise upon which the request was based. Qingdao Denarius also submitted a public version, which adequately summarized proprietary information and provided explanations as to why certain proprietary information is not capable of summarization.

Pursuant to section 751(a)(2)(B)(i)(I) of the Act and 19 CFR 351.214(b)(2)(i), Qingdao Denarius certified that it did not export steel nails to the United States during the period of investigation (“POI”). In addition, pursuant to section 751(a)(2)(B)(i)(II) of the Act and 19 CFR 351.214(b)(2)(iii)(A), Qingdao Denarius certified that, since the initiation of the investigation, it has never been affiliated with any Chinese exporter or producer who exported steel nails to the United States during the POI, including those not individually examined during the investigation. As required by 19 CFR 351.214(b)(2)(iii)(B), Qingdao Denarius also certified that its export activities were not controlled by the central government of the PRC.

In addition to the certifications described above, pursuant to 19 CFR 351.214(b)(2)(iv), Qingdao Denarius submitted documentation establishing the following: (1) the date on which Qingdao Denarius first shipped steel nails for export to the United States and the date on which the steel nails were first entered, or withdrawn from warehouse, for consumption; (2) the volume of its first shipment; and (3) the date of its first sale to an unaffiliated customer in the United States.

The Department conducted U.S. Customs and Border Protection (“CBP”) database queries in an attempt to confirm that Qingdao Denarius's shipments of subject merchandise had entered the United States for consumption and that liquidation of such entries had been properly suspended for antidumping duties. The Department also examined whether the CBP data confirmed that such entries were made during the NSR POR. The information we examined was consistent with that provided by Qingdao Denarius.

Initiation of New Shipper Reviews

Pursuant to section 751(a)(2)(B) of the Act and 19 CFR 351.214, the Department finds that Qingdao Denarius meets the threshold requirements for initiation of a NSR for the shipments of steel nails from the PRC that it produced and exported. See “Memorandum to the File from Tim Lord, Case Analyst, Initiation of AD New Shipper Review: Certain Steel Nails from the People's Republic of China (A-570-909)” (March 16, 2009).

The Department intends to issue the preliminary results of this NSR no later than 180 days from the date of initiation, and the final results no later than 270 days from the date of initiation. See section 751(a)(2)(B)(iv) of the Act.

On August 17, 2006, the Pension Protection Act of 2006 (“H.R. 4”) was signed into law. Section 1632 of H.R. 4 temporarily suspends the authority of the Department to instruct CBP to collect a bond or other security in lieu of a cash deposit in new shipper reviews during the period of April 1, 2006, through June 30, 2009. Therefore, the posting of a bond or other security under section 751(a)(B)(iii) of the Act in lieu of a cash deposit is not available in this case. Importers of steel nails from the PRC manufactured and/or exported by Qingdao Denarius must continue to post cash deposits of estimated antidumping duties on each entry of subject merchandise at the current PRC-wide entity rate of 118.04 percent. See Antidumping Duty Order.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: March 16, 2009.
John M. Andersen,
Acting Deputy Assistant Secretary for Antidumping and Countervailing Duty Operations.

[FR Doc. E9-6155 Filed 3-19-09; 8:45 am]

BILLING CODE 3510-DS-S